DEPARTMENT OF STATE

[Public Notice 4733]

International Joint Commission; Boundary Waters Treaty of 1909

By letters dated May 7, 2004, and May 11, 2004, respectively, the Canadian and United States federal governments asked the International Joint Commission (IJC) to review plans by the State of Vermont to modernize the Alburg-Swanton Bridge, involving the partial removal of the existing causeway, and to provide advice on whether this complies with the terms of the Boundary Waters Treaty of 1909 as concerns causing pollution to the injury of health or property in Canada. The Alburg-Swanton Bridge is wholly located in Vermont and crosses the waters connecting Missisquoi Bay with Lake Champlain.

The request from governments was made as a reference under Article IX of the Boundary Waters Treaty. While further discussions between the IJC and the governments may refine the issues to be examined, the governments asked that the IJC review include:

1. Whether the original causeway affects water levels/flows in Canada;

2. Whether the original causeway in the U.S. causes pollution to the injury of health or property in Canada;

3. Whether the removal of the original causeway in the U.S. might cause pollution to the injury of health or property in the United States; and

4. Whether the proposed project in the U.S. will cause pollution to the injury of health or property in Canada.

The governments have asked the IJC to complete its review by the end of summer. The IJC anticipates holding public hearings on this matter at dates and locations to be announced in the local news media and on the IJC's Web site.

In addition to the public hearings, the IJC invites all interested parties to submit written comment over the course of this investigation to the addresses below: Secretary, Canadian Section, 234 Laurier Avenue West, 22nd Floor, Ottawa, Ontario K1P 6K6, Fax: (613) 993-5583, E-mail: Commission@ottawa.ijc.org. Secretary, United States Section, 1250 23rd Street, NW., Suite 100, Washington, DC 20440, Fax: (202) 467-0746, E-mail: Commission@washington.ijc.org.

The International Joint Commission is a binational Canada-U.S. organization established by the Boundary Waters Treaty of 1909. It assists the governments in managing waters along the border for the benefit of both countries in a variety of ways including examining issues referred to it by the two Federal governments.

More information, including the full text of the governments' letters of reference, may be found on the Commission's Web site, at http://www.ijc.org.

Dated: June 1, 2004.
Elizabeth C. Bourget,
Secretary, United States Section, Department of State.

[FR Doc. 04-13194 Filed 6-9-04; 8:45 am]

BILLING CODE 4710-14-P